DEPARTMENT OF LABOR

Employment and Training Administration

[TA-W-62,619; TA-W-62,619A]

OEM/Erie, Inc., Including On-Site Leased Workers From Career Concepts Staffing Services Erie, PA; Including an Employee in Support of OEM/Erie, Inc., Erie, PA Operating Out of Madision Heights, MI: Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on March 3, 2008, applicable to workers of OEM/Erie, Inc., including on-site leased workers from Career Concepts Staffing Services, Erie, Pennsylvania. The notice was published in the Federal Register on March 21, 2008 (73 FR 15217).

At the request of the State agency, the Department reviewed the certification for workers of the subject firm.

New information shows that a worker separation has occurred involving an employee in support of the Erie, Pennsylvania facility of OEM/Erie, Inc. operating out of Madison Heights, Michigan. Mr. Edward Conger provided engineering functions supporting the production of plastic trim automotive parts that was produced at the Erie, Pennsylvania facility of the subject firm.

Based on these findings, the Department is amending this certification to include an employee in support of the Erie, Pennsylvania facility operating out of Madison Heights, Michigan.

The intent of the Department's certification is to include all workers of OEM/Erie, Inc., Erie, Pennsylvania who were adversely affected by increased imports.

The amended notice applicable to TA-W-62,619 is hereby issued as follows:

All workers of OEM/Erie, Inc., including on-site leased workers from Career Concepts Staffing Services, Erie, Pennsylvania (TA-W-62,619) including an employee in support of OEM/Erie, Inc., Erie, Pennsylvania operating out of Madison Heights, Michigan (TA-W-62,619A), who became totally or partially separated from employment on or after December 13, 2006, through March 3, 2010, are eligible to apply for adjustment assistance under Section 223 of the Trade Act of 1974, and are also eligible to apply for alternative trade adjustment assistance under Section 246 of the Trade Act of 1974.

Signed at Washington, DC, this 14th day of April 2008.
Richard Church,
Certifying Officer, Division of Trade Adjustment Assistance.

[FR Doc. E8-8779 Filed 4-22-08; 8:45 am]

BILLING CODE 4510-FN-P